DEPARTMENT OF COMMERCE

Foreign-Trade Zones Board

[B-26-2023]

Foreign-Trade Zone (FTZ) 204, Notification of Proposed Production Activity; GSM Engineered Fabrics, LLC; (Industrial Belts); Kingsport, Tennessee

The Tri-Cities Airport Authority, grantee of FTZ 204, submitted a notification of proposed production activity to the FTZ Board (the Board) on behalf of GSM Engineered Fabrics, LLC, located in Kingsport, Tennessee within FTZ 204. The notification conforming to the requirements of the Board's regulations (15 CFR 400.22) was received on April 12, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include finished industrial woven and spiral link belts (duty rate—3.8%) used in liquid and solid separation.

The proposed foreign-status materials and components include rolls of woven polyester belt material, rolls of spiral polyphenylene sulfide belt material, and adhesive tape (duty rate ranges from 3.8% to 8%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is May 30, 2023.

A copy of the notification will be available for public inspection in the “Online FTZ Information System” section of the Board's website.

For further information, contact Diane Finver at Diane.Finver@trade.gov.

Dated: April 13, 2023.
Elizabeth Whiteman,
Acting Executive Secretary.

[FR Doc. 2023-08185 Filed 4-17-23; 8:45 am]

BILLING CODE 3510-DS-P